DEPARTMENT OF HEALTH AND HUMAN SERVICES

Centers for Disease Control and Prevention

[60Day-0920-0457]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Aggregate Reports for Tuberculosis Program Evaluation (OMB No. 0920-0457 exp. 5/31/2010)—Reinstatement—National Center for HIV/AIDS, Viral Hepatitis, STD, and TB Prevention (NCHHSTP), Centers for Disease Control and Prevention (CDC).

Background and Brief Description

CDC requests the reinstatement of the Aggregate Reports for Tuberculosis Program Evaluation, previously approved under OMB No. 0920-0457 after the 5/31/2010 expiration date, for 3 years. There are no revisions to the report forms, data definitions, or reporting instructions.

To ensure the elimination of tuberculosis in the United States, CDC monitors indicators for key program activities, such as finding tuberculosis infections in recent contacts of cases and in other persons likely to be infected and providing therapy for latent tuberculosis infection. In 2000, CDC implemented two program evaluation reports for annual submission: Aggregate report of follow-up for contacts of tuberculosis, and aggregate report of screening and preventive therapy for tuberculosis infection (OMB No. 0920-0457). The respondents for these reports are the 68 state and local tuberculosis control programs receiving federal cooperative agreement funding through DTBE. These reports emphasize treatment outcomes, high-priority target populations vulnerable to tuberculosis, and programmed electronic report entry, which will be transitioned to the National Tuberculosis Indicators Project (NTIP), a secure Web-based system for program evaluation data, in 2010. No other federal agency collects this type of national tuberculosis data, and the aggregate report of follow-up for contacts of tuberculosis, and aggregate report of screening and preventive therapy for tuberculosis infection are the only data source about latent tuberculosis infection for monitoring national progress toward tuberculosis elimination with these activities. CDC provides ongoing assistance in the preparation and utilization of these reports at the local and state levels of public health jurisdiction. CDC also provides respondents with technical support for the NTIP software (Electronic—100%, Use of Electronic Signatures—No). There is no cost to respondents.

Estimated Annualized Burden Hours
Report name | Respondents (state and local tuberculosis control programs) | Response format | No. response per respondent | Hours per response | Total burden (in hours)
Follow-up and Treatment of Contacts to Tuberculosis Cases | 68 data clerks | 50 Electronic 18 Manual | 1 1 | 30/60 3 | 34 204
| 68 program managers | 50 Electronic 18 Manual | 1 1 | 30/60 30/60 | 34 34
Targeted Testing and Treatment for Latent Tuberculosis Infection | 68 data clerks | 50 Electronic 18 Manual | 1 1 | 30/60 3 | 34 204
| 68 program managers | 50 Electronic 18 Manual | 1 1 | 30/60 30/60 | 34 34
|  |  |  |  | 612

Dated: March 31, 2010.
Maryam I. Daneshvar,
Acting Reports Clearance Officer, Centers for Disease Control and Prevention.

[FR Doc. 2010-7935 Filed 4-7-10; 8:45 am]

BILLING CODE 4163-18-P